DEPARTMENT OF ENERGY

Federal Energy Regulatory Commission

[Project No. 3409-032]

Boyne USA, Inc.; Notice of Application Tendered for Filing With the Commission and Soliciting Additional Study Requests and Establishing Procedural Schedule for Relicensing and a Deadline for Submission of Final Amendments

Take notice that the following hydroelectric application has been filed with the Commission and is available for public inspection.

a. Type of Application: Subsequent Minor License.

b. Project No.: 3409-032.

c. Date Filed: January 31, 2020.

d. Applicant: Boyne USA, Inc.

e. Name of Project: Boyne River Hydroelectric Project.

f. Location: On the Boyne River in Boyne Valley Township, Charlevoix County, Michigan.

g. Filed Pursuant to: Federal Power Act 16 U.S.C. 791 (a)-825(r).

h. Applicant Contact: Randall Sutton, Boyne Mountain Resort Area Manager Boyne USA, Inc., P.O. Box 19, Boyne Falls, MI 49713; (231) 549-6076; rsutton@boynemountain.com.

i. FERC Contact: Patrick Ely at patrick.ely@ferc.gov or (202) 502-8570.

j. Cooperating Agencies: Federal, state, local, and tribal agencies with jurisdiction and/or special expertise with respect to environmental issues that wish to cooperate in the preparation of the environmental document should follow the instructions for filing such requests described in item l below. Cooperating agencies should note the Commission's policy that agencies that cooperate in the preparation of the environmental document cannot also intervene. See, 94 FERC 61,076 (2001).

k. Pursuant to section 4.32(b)(7) of 18 CFR of the Commission's regulations, if any resource agency, Indian Tribe, or person believes that an additional scientific study should be conducted in order to form an adequate factual basis for a complete analysis of the application on its merit, the resource agency, Indian Tribe, or person must file a request for a study with the Commission not later than 60 days from the date of filing of the application, and serve a copy of the request on the applicant.

l. Deadline for filing additional study requests and requests for cooperating agency status: March 31, 2020.

The Commission strongly encourages electronic filing. Please file additional study requests and requests for cooperating agency status using the Commission's eFiling system at http://www.ferc.gov/docs-filing/efiling.asp. For assistance, please contact FERC Online Support at FERCOnlineSupport@ferc.gov, (866) 208-3676 (toll free), or (202) 502-8659 (TTY). In lieu of electronic filing, please send a paper copy to: Secretary, Federal Energy Regulatory Commission, 888 First Street NE, Washington, DC 20426. The first page of any filing should include docket number P-3409-032.

m. The application is not ready for environmental analysis at this time.

n. The Boyne River Hydroelectric Project (project) consists of a reservoir with a gross storage capacity of 356 acre-feet and a surface area of 68 acres at a pool elevation of 636.8 feet National Geodetic Vertical Datum 1988. The project includes: (a) An existing 610-foot-long by 30-foot-high (left) earth-fill dam embankment, a 180-foot-long by 18-foot-high (right) earth-fill dam embankment, a 75-foot-long concrete spillway; (b) a 132-foot-long by 50 to 72-foot-wide by 12-foot-deep concrete lined headrace channel; (c) a 74-foot-long steel penstock consisting of two 5-foot-diameter and one 7-foot-diameter sections; (d) a 20-foot-long by 8.3-foot-wide to 16-foot-wide by 4-foot-deep stilling basin; and (e) a 24-foot-long by 24-foot-wide concrete powerhouse with a single 250-kilowatt propeller turbine. The project also consists of a 2.5-mile-long, 12.5-kilovolt transmission line and appurtenant facilities. The project generates about 661 megawatt-hours annually. The applicant proposes to continue to operate the project in a run-of-river mode.

o. A copy of the application is available for review at the Commission in the Public Reference Room or may be viewed on the Commission's website at http://www.ferc.gov using the eLibrary link. Enter the docket number excluding the last three digits in the docket number field to access the document. For assistance, contact FERC Online Support. A copy is also available for inspection and reproduction at the address in item h above.

You may also register online at http://www.ferc.gov/docs-filing/esubscription.asp to be notified via email of new filings and issuances related to this or other pending projects. For assistance, contact FERC Online Support.

p. Procedural schedule and final amendments: The application will be processed according to the following preliminary schedule. Revisions to the schedule will be made as appropriate.

Issue Deficiency Letter (if necessary)—March 2020

Request Additional Information (if necessary)—March 2020

Issue Scoping Document 1 for comments—July 2020

Request Additional Information (if necessary)—September 2020

Issue Scoping Document 2 (if necessary)—October 2020

Issue Notice of Ready for Environmental Analysis—October 2020

Commission issues EA—April 2021

Final amendments to the application must be filed with the Commission no later than 30 days from the issuance date of the notice of ready for environmental analysis.

Dated: February 11, 2020.
Kimberly D. Bose,
Secretary.

[FR Doc. 2020-03125 Filed 2-14-20; 8:45 am]

BILLING CODE 6717-01-P